GENERAL SERVICES ADMINISTRATION

Interagency Committee for Medical Records (ICMR); Cancellation of Medical Standard Forms

AGENCY: General Services Administration.

ACTION: Notice.

SUMMARY: Standard Form 521, Medical Record—Dental is cancelled. The SF 603A, Medical Record—Dental Continuation will replace the SF 521 because the Federal medical community no longer uses it.

FOR FURTHER INFORMATION CONTACT: Ms. Barbara Williams, General Services Administration, (202) 501-0581.

DATES: Effective June 16, 2003.

Dated: June 9, 2003.
Barbara M. Williams,
Deputy Standard and Optional Forms Management Officer, General Services Administration.

[FR Doc. 03-15109 Filed 6-13-03; 8:45 am]

BILLING CODE 6820-34-M